DEPARTMENT OF AGRICULTURE

Natural Resources Conservation Service

Muddy Fork of the Illinois River Watershed, Washington County, AR

AGENCY: Natural Resources Conservation Service.

ACTION: Notice of a finding of no significant impact (FONSI).

SUMMARY: Pursuant to section 102(2)(c) of the National Environmental Policy Act of 1969; the Council on Environmental Quality Regulations (40 CFR part 1500); and the Natural Resources Conservation Service Regulations (7 CFR part 650), U.S. Department of Agriculture, Natural Resources Conservation Service, gives notice that an environmental impact statement is not being prepared for the rehabilitation of Lake Prairie Grove, Multiple Purpose Structure No. 4, Muddy Fork of the Illinois River Watershed, Washington County, Arkansas.

FOR FURTHER INFORMATION CONTACT: Kalven L. Trice, State Conservationist, Natural Resources Conservation Service, Room 3416, Federal Building, 700 West Capitol Avenue, Little Rock, Arkansas 72201-3225, phone (501) 301-3100.

SUPPLEMENTARY INFORMATION: The environmental assessment of this federally assisted action indicates that the project will not cause significant local, regional, or national impacts on the environment. As a result of these findings, Kalven L. Trice, State Conservationist, has determined that the preparation and review of an environmental impact statement are not needed for this project.

The purpose of this project is to provide for the rehabilitation of the multiple purpose flood control and water supply structure No. 4 located southwest of Prairie Grove, Arkansas in the Muddy Fork of the Illinois River Watershed. The planned works of rehabilitation includes raising the dam height, adding a structural auxiliary spillway, and modifying the existing auxiliary spillway.

A limited number of copies of the FONSI are available at the above address to fill single copy requests. Basic data developed during the environmental assessment are on file and may be reviewed by contacting Bob Fooks, Acting Assistant State Conservationist Natural Resources Planning, Natural Resources Conservation Service, Room 3416, Federal Building, 700 West Capitol Avenue, Little Rock, Arkansas 72201-3225, phone (501) 301-3143.

No administrative action on implementation of the proposal will be taken until 30 days after the date of this publication in the Federal Register.

Dated: July 11, 2005.
Kalven L. Trice,
State Conservationist.

[FR Doc. 05-14829 Filed 7-26-05; 8:45 am]

BILLING CODE 3410-16-M